DEPARTMENT OF THE INTERIOR

Bureau of Land Management

[OR-936-5870-HN; HAG-06-0098]

Call for Public Nominations of Inholding Properties for Potential Purchase by the Federal Government in the States of Oregon and Washington

AGENCY: Bureau of Land Management, Interior.

ACTION: Notice.

SUMMARY: In accordance with the Federal Land Transaction Facilitation Act of 2000 (43 U.S.C. 2303) (FLTFA), this notice provides the public the opportunity to nominate inholding properties within the States of Oregon and Washington for possible acquisition by the Federal agencies identified below.

DATES: Nominations may be submitted at any time following the publication of this notice.

ADDRESSES: Nominations should be mailed to the attention of the FLTFA Program Manager for the agency listed below having jurisdiction over the adjacent Federal designated area: Bureau of Land Management, P.O. Box 2965, Portland, OR 97208, USDA Forest Service, P.O. Box 3623, Portland, OR 97208-3623; National Park Service, 1111 Jackson Street, Suite 700, Oakland, CA 94607-4807; and U.S. Fish and Wildlife Service, Pacific Region, 911 NE 11th Ave., Portland, OR 97232.

FOR FURTHER INFORMATION CONTACT: Pam Chappel, FLTFA Program Manager, BLM Oregon State Office, 503-808-6170; or e-mail pam_chappel@blm.gov.

SUPPLEMENTARY INFORMATION: In accordance with the FLTFA, the four Federal agencies noted above are offering to the public an opportunity to nominate lands in the States of Oregon and Washington for possible Federal acquisition. Under the provisions of FLTFA, only the following non-Federal lands are eligible for nomination: (1) Inholdings within a federally-designated area; or (2) Inholdings adjacent to federally-designated areas that contain exceptional resources.

An inholding is any right, title, or interest held by a non-Federal entity, in or to a tract of land that lies within the boundary of a federally-designated area.

A federally-designated area is an area, in existence on July 25, 2000, set aside for special management, including units of the national park system managed by the National Park Service, national wildlife refuge system managed by the U.S. Fish and Wildlife Service, or national forest system managed by the USDA Forest Service, and national monuments, national conservation areas, national riparian conservation areas, national recreation areas, national scenic areas, research natural areas, national outstanding natural areas, national landmarks, and areas of critical environmental concern managed by the Bureau of Land Management, wilderness or wilderness study areas, and units of the wild and scenic rivers system or national trails system. If you are uncertain if a particular area meets the statutory definition in FLTFA of a federally-designated area, you should consult the statute or the BLM as provided above.

Exceptional resource refers to a resource of scientific, natural, historic, cultural or recreational value which has been documented by a Federal, state, or local government authority, and for which there is a compelling need for conservation and protection under the jurisdiction of a Federal agency in order to maintain the resource for the benefit of the public.

Nominations meeting the above criteria may be submitted by any individual, group or governmental body. If submitted by a party other than the landowner, the landowner must also sign the nomination to confirm their willingness to sell. Nominations will only be considered eligible by the agencies if: (1) The nomination package is complete; (2) acquisition of the nominated land or interest in land would be consistent with an agency approved land use plan; (3) the land does not contain a hazardous substance or is not otherwise contaminated and would not be difficult or uneconomical to manage as Federal lands; and (4) acceptable title can be conveyed in accordance with Federal title standards. Priority will be placed on nominations for inholdings in areas where there is no local or tribal government objection to Federal acquisition. Nominations may be made at any time following publication of this notice and will continue to be accepted for consideration during the life of the FLTFA, which ends on July 24, 2010, unless extended by Act of Congress.

Nominations may be made on forms available from Pam Chappel at the address stated above. Requests for the forms may be made by phone, e-mail, or U.S. Postal Service mail.

The agencies will assess the nominations for public benefits and rank the nominations in accordance with a jointly prepared State level Interagency Implementation Agreement for FLTFA and a national level Interagency Memorandum of Understanding among the agencies. The nomination and identification of an inholding does not obligate the landowner to convey the property nor does it obligate the United States to acquire the property.

All Federal land acquisitions must be made at fair market value established by applicable provisions of the Uniform Appraisal Standards for Federal Land Acquisitions.

Further information and details of the Statewide Interagency Implementation Agreement, may be obtained by contacting Pam Chappel at the address noted above. The BLM will be developing a world wide Web site linked to the BLM Oregon site at http://www.or.blm.gov.

Elaine M. Brong,
State Director Oregon/Washington, USDI Bureau of Land Management.

[FR Doc. E6-7523 Filed 5-17-06; 8:45 am]

BILLING CODE 4310-33-P